DEPARTMENT OF DEFENSE

Office of the Secretary

DoD Task Force on the Future of Military Health Care; Meeting

AGENCY: DoD.

ACTION: Notice of meeting.

SUMMARY: In accordance with section 10(a)(2) of Public Law 92-463, The Federal Advisory Committee Act, announcement is made of the following meeting:

Name of Committee: DoD Task Force on the Future of Military Health Care, a Subcommittee of the Defense Health Board.

Dates: January 16, 2007.

Times: 12:30 p.m.-4 p.m.

Location: Salon F, Crystal City Marriott, 1999 Jefferson Davis Highway, Arlington, Virginia.

Agenda: The purpose of the meeting is to obtain, review, and evaluate information related to the Future of Military Health Care Task Force's congressionally-directed task to examine matters relating to the future of military health care. In addition to discussing internal administrative issues, the Task Force members will receive briefings on topics related to the delivery of military health care. Due to scheduling conflicts among Task Force members, an agreed upon meeting date and time to achieve a membership quorum could not be obtained within the required 15 day Federal Register notice period.

FOR FURTHER INFORMATION CONTACT: Colonel Christine Bader, Executive Secretary, Defense Health Board, Skyline One, 5205 Leesburg Pike, Suite 810, Falls Church, VA 22041, (703) 681-3279, ext. 116. http://www.ha.osd.mil/dhb.

SUPPLEMENTARY INFORMATION: The session on January 16, 2007 will be open to the public in accordance with Section 552b(b) of Title 5, U.S.C., specifically subparagraph (1) thereof and Title 5, U.S.C., appendix 1, subsection 10(d). Open sessions of the meeting will be limited by space accommodations. Any interested person may attend, appear before or file statements with the Board at the time and in the manner permitted by the Board.

Dated: January 9, 2007.
C.R. Choate,
Alternate OSD Federal Register Liaison Officer, Department of Defense.

[FR Doc. 07-130 Filed 1-16-07; 8:45 am]

BILLING CODE 5001-06-M